Title 3—

The President

Proclamation 7353 of October 6, 2000

Afterschool Week, 2000

By the President of the United States of America

A Proclamation

Each weekday afternoon in America, the ringing of school bells signals not just the end of the school day, but also the beginning of a period when 8 to 15 million of our children are home alone. These so-called “latchkey” children can be found in every American community, whether urban, suburban, or rural; they are the children of working parents who, for a variety of reasons, are unable to arrange or afford a better alternative. Not surprisingly, most juvenile crimes are committed and most children are likely to become victims of crime during the 5 or 6 hours immediately after the school day ends.

Providing appropriate supervision for children after school is one of the more difficult challenges that working parents face. Recognizing this, my Administration has worked hard to provide parents with alternative afternoon activities for their children. Through our 21st Century Community Learning Centers program, under the leadership of Education Secretary Richard Riley, we are providing schools and community organizations with funding to create and expand learning opportunities for children in a drug-free, supervised environment. This program enables schools to stay open longer so that students have places to do their homework, receive counseling about the dangers of substance abuse, and participate with mentors in a wide array of academic and recreational activities that challenge their imagination and broaden their horizons.

In the 4 years since we created the 21st Century Community Learning Centers program, hundreds of thousands of children across our country have enrolled in safe and smart afterschool programs. My proposed budget for fiscal 2001 will more than double the Federal commitment to this program, enabling us to reach as many as 2.5 million students next year. These community learning centers provide America's parents with the comforting assurance that, while they are out earning a living, their children are participating in engaging and constructive afterschool activities.

To highlight the growing need for afterschool programs, the Afterschool Alliance—a partnership of public, private, and nonprofit organizations dedicated to raising awareness and expanding resources for afterschool programs—has announced a nationwide project called “Lights On Afterschool!” On October 12 of this year, schools, community centers, museums, libraries, and parks across the country will host activities to inform families about the places currently open to children after school and the need to provide additional centers where children can participate in engaging, stimulating activities until their parents return from work.

NOW, THEREFORE, I, WILLIAM J. CLINTON, President of the United States of America, by virtue of the authority vested in me by the Constitution and laws of the United States, do hereby proclaim the week of October 8 to October 14, 2000, as Afterschool Week. I encourage parents, students, educators, community and business leaders, and concerned citizens to participate in “Lights On Afterschool!” activities on Thursday, October 12. I also urge all Americans to recognize the importance of providing afterschool programs in their communities to promote the safety and well-being of our Nation's children.

IN WITNESS WHEREOF, I have hereunto set my hand this sixth day of October, in the year of our Lord two thousand, and of the Independence of the United States of America the two hundred and twenty-fifth.

wj

[FR Doc. 00-26391

Filed 10-11-00; 8:45 am]

Billing code 3195-01-P